DEPARTMENT OF COMMERCE

International Trade Administration

Advance Notification of Sunset Review; Correction

AGENCY: Enforcement and Compliance, International Trade Administration, Department of Commerce.

SUMMARY: The Department of Commerce (Commerce) is correcting an advance notification of sunset review.

DATES: Applicable (December 3, 2018).

FOR FURTHER INFORMATION CONTACT: Brenda E. Brown, Office of AD/CVD Operations, Customs and Liaison Unit, Enforcement and Compliance, International Trade Administration, U.S. Department of Commerce, 1401 Constitution Avenue NW, Washington, DC 20230; telephone: (202) 482-4735.

SUPPLEMENTARY INFORMATION:

Background

On December 3, 2018, Commerce published the January 2019 Advance Sunset Review Notice,¹ in which Commerce inadvertently omitted Sodium Nitrite from China (C-570-926) from the list of sunset reviews that will initiate on January 2019; we are advancing the initiation of this sunset review to promote administrative efficiency. Additionally, the January 2019 Advance Sunset Review Notice listed the incorrect case numbers for two sunset reviews involving Certain Hot-Rolled Carbon Steel Flat Products from Indonesia. The correct case numbers for the Certain Hot-Rolled Carbon Steel Flat Products from Indonesia sunset reviews are (A-560-812) and (C-560-813). This notice serves to correct the January 2019 Advance Sunset Review Notice for the aforementioned items.

¹ See Antidumping or Countervailing Duty Order, Finding, or Suspended Investigation; Advance Notification of Sunset Review, 83 FR 62292 (December 3, 2018) (January 2019 Advance Sunset Review Notice).

This correction notice for the advance notification of sunset reviews is being published in accordance with section 751(c) of the Act and 19 CFR 351.218 (c).

Dated: December 18, 2018.
James Maeder,
Associate Deputy Assistant Secretary for Antidumping and Countervailing Duty Operations performing the duties of Deputy Assistant Secretary for Antidumping and Countervailing Duty Operations.

[FR Doc. 2018-27864 Filed 12-21-18; 8:45 am]

BILLING CODE 3510-DS-P